ENVIRONMENTAL PROTECTION AGENCY

[EPA-HQ-OPP-2015-0739; FRL-11816-01-OCSPP]

Pesticide Registration Review; Draft Human Health and Ecological Risk Assessments for Formaldehyde and Paraformaldehyde; Notice of Availability

AGENCY: Environmental Protection Agency (EPA).

ACTION: Notice.

SUMMARY: This notice announces the availability of EPA's draft human health and ecological risk assessments for the registration review of formaldehyde and paraformaldehyde and opens a 60-day public comment period on this document.

DATES: Comments must be received on or before June 18, 2024.

ADDRESSES: Submit your comments, identified by docket identification (ID) number EPA-HQ-OPP-2015-0739, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: The Chemical Review Manager for formaldehyde identified in table 1 of unit I.

For general questions on the registration review program, contact: Melanie Biscoe, Pesticide Re-Evaluation Division (7508P), Office of Pesticide Programs, Environmental Protection Agency, 1200 Pennsylvania Ave. NW, Washington, DC 20460-0001; telephone number: (202) 566-0701; email address: biscoe.melanie@epa.gov.

SUPPLEMENTARY INFORMATION:

I. General Information

A. Does this action apply to me?

This notice is directed to the public in general and may be of interest to a wide range of stakeholders including environmental, human health, worker rights advocates; the chemical industry; pesticide users; and members of the public interested in the sale, distribution, or use of pesticides. Since others also may be interested, the Agency has not attempted to describe all the specific entities that may be affected by this action. If you have any questions regarding the applicability of this action to a particular entity, consult the Chemical Review Manager identified in table 1 in unit I.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

4. Information submission requirements. Anyone may submit data or information in response to this document. To be considered during a pesticide's registration review, the submitted data or information must meet the following requirements:

• To ensure that EPA will consider data or information submitted, interested persons must submit the data or information during the comment period. However, the Agency may, at its discretion, consider data or information submitted at a later date.

• The data or information submitted must be presented in a legible and useable form. For example, an English translation must accompany any material that is not in English, and a written transcript must accompany any information submitted as an audio graphic or videographic record. Written material may be submitted in paper or electronic form.

• Submitters must clearly identify the source of any submitted data or information.

• Submitters may request the Agency to reconsider data or information that the Agency rejected in a previous review. However, submitters must explain why they believe the Agency should reconsider the data or information in the pesticide's registration review.

II. Background

Registration review is EPA's periodic review of pesticide registrations to ensure that each pesticide continues to satisfy the statutory standard for registration, that is, the pesticide can perform its intended function without unreasonable adverse effects on human health or the environment. As part of the registration review process, the Agency has completed comprehensive draft human health and/or ecological risk assessments for the pesticides listed in table 1 in unit I. After reviewing comments received during the public comment period, EPA may issue a revised risk assessment, explain any changes to the draft risk assessment, and respond to comments and may request public input on risk mitigation before completing a proposed registration review decision for the pesticides listed in table 1 in unit I. Through this program, EPA is ensuring that each pesticide's registration is based on current scientific and other knowledge, including its effects on human health and the environment.

III. Authority

EPA is conducting its registration review of formaldehyde and paraformaldehyde pursuant to the Federal Insecticide, Fungicide, and Rodenticide Act (FIFRA) section 3(g) (7 U.S.C. 136(g)) and the Procedural Regulations for Registration Review at 40 CFR part 155, subpart C. FIFRA section 3(g) provides, among other things, that pesticide registrations are to be reviewed every 15 years. Consistent with 40 CFR 155.57, in its final registration review decision, EPA will ultimately determine whether a pesticide continues to meet the registration standard in FIFRA section 3(c)(5) (7 U.S.C. 136a(c)(5)).

As part of the registration review process, the Agency has completed draft human health and ecological risk assessments on formaldehyde and paraformaldehyde. Pursuant to 40 CFR 155.53(c), EPA generally provides for at least a 30-day public comment period on draft human health and/or ecological risk assessments during registration review. This comment period is intended to provide an opportunity for public input on the Agency's assessment of the human health and/or ecological risks posed by use of these pesticides.

IV. What action is the Agency taking?

Pursuant to 40 CFR 155.53(c), this notice announces the availability of EPA's draft human health and ecological risk assessments for formaldehyde and paraformaldehyde and opens a 60-day public comment period on this document.

Table 1—Formaldehyde and Paraformaldehyde Registration Review Docket Details
Registration review case name and No. | Docket ID No. | Chemical Review Manager and contact information
Formaldehyde and Paraformaldehyde Case 0556 | EPA-HQ-OPP-2015-0739 | Kendall Ziner, ziner.kendall@epa.gov, (202) 566-0621.

All comments should be submitted using the methods in ADDRESSES and must be received by the EPA on or before the closing date. These comments will become part of the docket for formaldehyde and paraformaldehyde. The Agency will consider all comments received during the public comment period and make changes, as appropriate, to the draft human health and/or ecological risk assessment. As appropriate, EPA may then issue a revised risk assessment, explain any changes to the draft risk assessment, and respond to comments.

Authority: 7 U.S.C. 136 et seq.

Dated: April 10, 2024.
Anita Pease,
Director, Antimicrobials Division, Office of Pesticide Programs.

[FR Doc. 2024-08399 Filed 4-18-24; 8:45 am]

BILLING CODE 6560-50-P